DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before September 14, 2022.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on August 9, 2022.
Donald P. Burger,
Chief, General Approvals and Permits Branch.

Application No. | Applicant | Regulation(s) affected | Nature of the special permits thereof
Special Permits Data—Granted
8995-M | BASF Corporation | 173.315(a), 174.63(c)(1) | To modify the special permit to authorize an additional hazardous material.
15036-M | UTLX Manufacturing Incorporated | 172.203(a), 172.302(c), 173.244, 173.1, 173.3, 173.314, 173.31(e), 179.102-2, 179.102-3, 179.15, 179.16 | To modify the special permit to remove the requirement for visual inspection of areas needing access via cut-out ports in the support structure.
20599-M | County of Orange | 172.320, 173.56(b) | To modify the special permit to authorize contractors under the direct control of the county to package and prepare shipments under the special permit.
21307-N | Packaging And Crating Technologies, LLC | 172.200, 172.300, 172.400, 172.700(a) | To authorize the manufacture, mark, sale and use of packaging for purposes of “offering or reoffering” lithium batteries for recycling, reuse, refurbishment, repurposing or evaluation without requiring shipping papers, marks, labels, or training.
21354-N | Showa Chemicals of America, Inc | 173.304a | To authorize the use of non-DOT specification cylinders similar to DOT 4BW specification cylinders.
21360-N | ABG Bag, Inc | 173.12(b)(2)(ii)(C), 178.707(d) | To authorize the use of alternative packaging for the transportation in commerce of lab packs.
21400-N | Advance Research Chemicals, Inc | 173.163(a) | To authorize the transportation in commerce of a DOT specification 3AA2400 cylinder, containing anhydrous hydrogen fluoride, with a leak in the valve which has been repaired temporarily using a Cylinder Emergency “A” Kit.
21403-N | Northrop Grumman Systems Corporation | 173.185(a)(1), 173.185(a)(2) | To authorize the transportation in commerce of prototype, low production, and production lithium ion batteries and lithium ion batteries contained in equipment (avionic computers).
21405-N | PM4 Enterprises, Inc | 172.101(j), 173.185(a)(1) | To authorize the transportation in commerce of lithium ion batteries contained in equipment (Unmanned Ground Vehicle (UGV)) each with a battery net weight exceeding 35 kg aboard cargo-only aircraft.
Special Permits Data—Denied
21389-N | Honeywell International Inc | 178.44, 178.44, 178.44 | To authorize the manufacture, mark, sell and use of non-DOT specification welded pressure vessels comparable to DOT 3HT cylinders with certain exceptions.
Special Permits Data—Withdrawn
21332-N | Advanced Material Systems Corporation | 173.302(f)(1) | To authorize the transportation in commerce of ISO 11119-2 cylinders containing oxygen via cargo-only aircraft.
21364-N | Cenergy Solutions Inc | 172.101(i)(3), 173.302 | To authorize the transportation in commerce of methane contained in MC-331 cargo tanks via highway.
21372-N | Solid Power, Inc | 173.35(e) | To authorize the transportation in commerce of residue contained in IBCs where the closure nearest to the hazardous materials cannot be secured.

[FR Doc. 2022-17501 Filed 8-12-22; 8:45 am]

BILLING CODE 4910-60-P